DEPARTMENT OF EDUCATION

[Docket No.: ED-2020-SCC-0149]

Agency Information Collection Activities; Comment Request; Title IV Part A Waiver Request

AGENCY: Office of Elementary and Secondary Education, Department of Education (ED).

ACTION: Notice.

SUMMARY: In accordance with the Paperwork Reduction Act of 1995, ED is requesting the Office of Management and Budget (OMB) to conduct an emergency review of a new information collection.

DATES: Emergency approval by the OMB has been requested by September 30, 2020, therefore, the Department requests that comments are submitted by September 29, 2020. A regular clearance process is also hereby being initiated. Interested persons are invited to submit comments on or before November 16, 2020.

ADDRESSES: To access and review all the documents related to the information collection listed in this notice, please use http://www.regulations.gov by searching the Docket ID number ED-2020-SCC-0149. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Bryan Williams, 202-453-6715.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Student Support and Academic Enrichment Grant Program (Title IV, Part A) Waiver Request.

OMB Control Number: 1810-NEW.

Type of Review: A new information collection.

Respondents/Affected Public: State, Local, and Tribal Governments.

Total Estimated Number of Annual Responses: 52.

Total Estimated Number of Annual Burden Hours: 156.

Abstract: The Student Support and Academic Enrichment Grant Program (Title IV, Part A) grant program intends to offer waivers, for the 2020-2021 school year only, to State educational agencies (SEAs), based on section 8401 [20 U.S.C.7861] of the Elementary and Secondary Education Act, as reauthorized by the Every Student Succeeds Act (ESSA) in 2015, for specific requirements in the program. The purpose for this new collection is to collect waiver requests from each State wishing to take advantage of these waivers.

Additional Information: An emergency clearance approval for the use of the system is described below due to the following conditions: The U.S. Department of Education (ED) has determined that this information must be collected as close to the beginning of school year 2020-2021 as possible to provide flexibility to State educational agencies (SEAs) to help them address the unprecedented obstacles posed by the novel Coronavirus disease 2019 (COVID-19) that schools, teachers, students, and their families are facing as the 2020-2021 school year begins.

Dated: September 14, 2020.
Kate Mullan,
PRA Coordinator, Strategic Collections and Clearance, Governance and Strategy Division, Office of Chief Data Officer.

[FR Doc. 2020-20524 Filed 9-16-20; 8:45 am]

BILLING CODE 4000-01-P